DEPARTMENT OF LABOR

Office of the Assistant Secretary for Administration and Management; Notice of Online Posting of Department of Labor's Revised Draft Strategic Plan for Fiscal Years 2011-2016

Pursuant to section 306 of the Government Performance and Accountability Act of 1993 (GPRA), the Department of Labor is required to submit its Strategic Plan for Fiscal Years 2011-2016 to the Director of the Office of Management and Budget (OMB) and to the Congress by September 30, 2010. GPRA also requires agencies to “solicit and consider the views and suggestions of those entities potentially affected by or interested in” the Strategic Plan.

To solicit input from a diverse array of stakeholders, the Department of Labor (DOL) has directly engaged Congress, external stakeholders, and its own employees through agency outreach and by posting the Draft Strategic Plan on the DOL Web site. Thirteen DOL agencies (those contributing directly to the 14 outcome goals) have provided highlights of their measures and strategies in user-friendly slideshow format on the DOL strategic planning Web page. These agencies have also held listening sessions with employees working in the DOL national and regional offices, the general public, stakeholders, and Congress. Employee and public outreach included Web chats; public versions are archived on the strategic planning Web site. DOL supplemented agency outreach with an e-mail address for public comments.

DOL has been collecting and considering the suggestions and concerns of the various stakeholders to refine goals, measures, and strategies consistent with Secretary of Labor Hilda L. Solis' vision of “Good Jobs for Everyone.” Comments were distributed to the relevant agencies for consideration and changes were made to the plan as appropriate. The Office of Management and Budget has also reviewed and provided detailed comments on the Draft Strategic Plan, and additional changes were made as a result.

Now that the Draft Strategic Plan has undergone rigorous review and that a number of changes have been made in response to that review, DOL is now soliciting feedback on the revised Draft Strategic Plan. The revised Draft Strategic Plan will be posted on http://www.dol.gov/_sec/stratplan/ from August 23 through August 30, and during that time members of the public are invited to review it and offer comments to strategic-plan@dol.gov. If comments are related to a specific Agency (such as the Wage and Hour Division or the Mine Safety and Health Administration), the Agency's name should be included in the subject line of the e-mail to help DOL share that input with the appropriate parties. Note: The revised Draft Strategic Plan will be available in PDF and HTML formats.

Dated: August 17, 2010.
T. Michael Kerr,
Assistant Secretary for Administration and Management, U.S. Department of Labor.

[FR Doc. 2010-20724 Filed 8-19-10; 8:45 am]

BILLING CODE 4510-23-P